DEPARTMENT OF LABOR

Comment Request for Information Collection for Tax Performance System, Extension Without Revision

AGENCY: Employment and Training Administration (ETA), Labor.

ACTION: Notice.

SUMMARY: The U.S. Department of Labor (Department), as part of its continuing effort to reduce paperwork and respondent burden, conducts a preclearance consultation program to provide the general public and Federal agencies with an opportunity to comment on proposed and/or continuing collections of information in accordance with the Paperwork Reduction Act of 1995 (PRA95) (44 U.S.C. 3506 (c) (2) (A)). This program helps to ensure that requested data can be provided in the desired format, reporting burden (time and financial resources) is minimized, collection instruments are clearly understood, and the impact of collection requirements on respondents can be properly assessed.

Grants of funds that are made to states for administration of their employment security laws include funds for the establishment of a Quality Control Unit in each state in order for states to assess the quality of their unemployment insurance tax programs. States perform the assessment annually in accordance with instructions issued by the Department. The assessment and instructions are referred to as the Tax Performance System (TPS). Currently, the ETA is soliciting comments concerning the collection of data pertaining to the TPS.

DATES: Submit written comments to the office listed in the address section below on or before March 24, 2015.

ADDRESSES: Send comments to Joseph Toth, Office of Unemployment Insurance, Employment and Training Administration, U.S. Department of Labor, Room S-4522, 200 Constitution Ave. NW., Washington, DC, 20210. Telephone number 202-693-3894 (this is not a toll-free number). Individuals with hearing or speech impairments may access the telephone number above via TTY by calling the toll-free Federal Information Relay Service at 1-877-889-5627 (TTY/TDD). Email: toth.joseph@dol.gov. To obtain a copy of the proposed information collection request (ICR), please contact the person listed above.

SUPPLEMENTARY INFORMATION:

I. Background

Since 1987, states have been required by regulation at 20 CFR part 602 to operate a program to assess their Unemployment Insurance (UI) tax and benefit programs. TPS is designed to assess the major internal UI tax functions by utilizing several methodologies: Computed Measures, which are indicators of timeliness and completeness based on data automatically generated via the existing ETA 581, Contribution Operations Report (Office of Management and Budget (OMB) approval number 1205-0178, expiring 02/28/2015, and currently under review for extension at OMB); and Program Reviews, which assess accuracy through a two-fold examination. This examination involves: (a) “Systems Reviews” which examine tax systems for the existence of internal controls; and (b) extraction of small samples of those systems' transactions which are then examined to verify the effectiveness of controls.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

III. Current Actions

Type of Review: Extension without change.

Title: Tax Performance System.

OMB Number: 1205-0332.

Affected Public: State Workforce Agencies.

Estimated Total Annual Respondents: 52.

Estimated Total Annual Responses:: 1739 hours.

Estimated Total Annual Burden Hours: 90,428.

Total Estimated Annual Other Cost Burden: $4,543,637.

Comments submitted in response to this notice will be summarized and/or included in the request for OMB approval of the ICR; they will also become a matter of public record.

Portia Wu,
Assistant Secretary for Employment and Training, Labor.

[FR Doc. 2015-01137 Filed 1-22-15; 8:45 am]

BILLING CODE 4510-FW-P